DEPARTMENT OF TRANSPORTATION

Federal Aviation Administration

14 CFR Part 39

[Docket No. FAA-2009-1088; Directorate Identifier 2008-SW-76-AD; Amendment 39-18091; AD 2014-12-11 R1]

RIN 2120-AA64

Airworthiness Directives; Sikorsky Aircraft Corporation Helicopters

AGENCY: Federal Aviation Administration (FAA), DOT.

ACTION: Final rule.

SUMMARY: We are revising Airworthiness Directive (AD) 2014-12-11 for Sikorsky Aircraft Corporation (Sikorsky) Model S-92A helicopters. AD 2014-12-11 required revising the Rotorcraft Flight Manual (RFM) to include the appropriate operating limitations for performing Class D external load-combination operations. As published, AD 2014-12-11 referenced an incorrect date for Revision No. 12 of Sikorsky RFM SA S92A-RFM-003, Part 1. This AD corrects the error while retaining the requirements of AD 2014-12-11. These actions are intended to require appropriate operating limitations to allow operators to perform Class D external load-combination operations, including human external cargo, in this model helicopter that now meets the Category A performance standard.

DATES: This AD is effective March 13, 2015.

ADDRESSES: For service information identified in this AD, contact Sikorsky Aircraft Corporation, Attn: Manager, Commercial Technical Support, mailstop S581A, 6900 Main Street, Stratford, CT, telephone (203) 383-4866, email address tsslibrary@sikorsky.com, or at http://www.sikorsky.com. You may view this referenced service information at the FAA, of the Regional Counsel, Southwest Region, 2601 Meacham Blvd., Room 663, Fort Worth, Texas 76137.

Examining the AD Docket

You may examine the AD docket on the Internet at http://www.regulations.gov in Docket No. FAA-2009-1088; or in person at the Docket Management Facility between 9 a.m. and 5 p.m., Monday through Friday, except Federal holidays. The AD docket contains this AD, any incorporated-by-reference information, the economic evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: John Coffey, Flight Test Engineer, Boston Aircraft Certification Office, 12 New England Executive Park, Burlington, MA 01803; telephone (781) 238-7173; email: john.coffey@faa.gov.

SUPPLEMENTARY INFORMATION:

Discussion

We issued a notice of proposed rulemaking (NPRM) to amend 14 CFR part 39 to revise AD 2014-12-11, Amendment 39-17872 (79 FR 45085, August 4, 2014), which applied to Sikorsky Model S-92A helicopters. The NPRM, published in the Federal Register on October 27, 2014 (79 FR 63855), proposed to retain the requirements of AD 2014-12-11 and correct the date of the RFM revision that appeared in the text of the rule.

Specifically, AD 2014-12-11 included the following under paragraph (f), Credit for Actions Previously Completed: “Incorporation of the changes contained in Sikorsky RFM SA S92A-RFM-003, Part 1, Revision No. 12, approved March 21, 2005, before the effective date of this AD is considered acceptable for compliance with the corresponding actions specified in paragraph (e) of this AD.” As published, the reference to March 21, 2005, was incorrect. The correct approval date for Revision 12 is December 9, 2010.

The FAA has determined that it is appropriate to revise AD 2014-12-11 to correct the RFM approval date. This revision clarifies which RFM revision is acceptable to obtain credit for previous actions.

No other part of the preamble or regulatory information has been changed. The final rule is reprinted in its entirety for the convenience of affected operators.

Comments

We gave the public the opportunity to participate in developing this AD, but we received no comments on the NPRM (79 FR 63855, October 27, 2014).

FAA's Determination

We have reviewed the relevant information and determined that an unsafe condition exists and is likely to exist or develop on other helicopters of these same type designs and that air safety and the public interest require adopting the AD requirements as proposed.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that a regulatory distinction is required, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-12-11, Amendment 39-17872 (79 FR 45085, August 4, 2014), and adding the following new AD:

2014-12-11 R1 Sikorsky Aircraft Corporation: Amendment 39-18091; Docket No. FAA-2009-1088; Directorate Identifier 2008-SW-76-AD.

(a) Applicability

This AD applies to Sikorsky Aircraft Corporation Model S-92A helicopters, certificated in any category.

(b) Unsafe Condition

This AD defines the unsafe condition as an inaccurate Rotorcraft Flight Manual (RFM) provision, which was approved without appropriate limitations for this model helicopter for carrying Class D external rotorcraft-load combinations, including Human External Cargo (HEC), when this model helicopter was not certificated to Category A one-engine inoperative (OEI) performance standards, including fly away capabilities after an engine failure, which is required for carrying HEC.

(c) Affected ADs

This AD revises AD 2014-12-11, Amendment 39-17872 (79 FR 45085, August 4, 2014).

(d) Effective Date

This AD becomes effective March 13, 2015.

(e) Compliance

You are responsible for performing each action required by this AD within the specified compliance time unless it has already been accomplished prior to that time.

(f) Required Actions

Within 90 days, revise the Operating Limitations section of Sikorsky Rotorcraft Flight Manual (RFM) SA S92A-RFM-003, Part 1, Section I, by inserting a copy of this AD into the RFM or by making pen and ink changes, as follows:

(1) In the “Types of Operation” section, beneath Hoist, add the following: “The hoist equipment certification installation approval does not constitute approval to conduct hoist operations. Operational approval for hoist operations must be granted by the Federal Aviation Administration. No cabin seats may be installed in front of station 317 when conducting Human External Cargo hoist operations, which requires Category A performance capabilities.”

(2) In the “Flight Limits” section, add the following: “ “HOIST” When conducting Human External Cargo operations, which require category `A' performance capabilities, the minimum hover height is 20 feet AGL and the maximum hover height is 80 feet AGL. “HOIST” The collective axis must remain uncoupled when conducting Human External Cargo, which requires category `A' performance capabilities, for the period of time that the person is off the ground or water and not in the aircraft. This can be accomplished by either uncoupling the collective axis or by the pilot depressing the collective trim switch during the pertinent portion of the maneuver.”

(3) In the “Weight Limits” section:

(i) Remove the following: “NOTE: The 150 pound hoist decrement does not preclude Cat A operations at a gross weight of 26,500 pounds with a hoist installed. If conditions permit, the pilot may go to the right of the 26,500 line on Figure 1-2 to determine a maximum gross weight up to 26,650 and then subtract 150 pounds.”

(ii) Add the following: “NOTE: If conditions permit, the pilot may go to the right of the 26,500 pound line on Figure 1-2 to determine the maximum gross weight and then subtract a 150 pound hoist decrement. The maximum gross weight for category `A' operations cannot exceed 26,500 pounds (12,020 kilograms).”

(iii) Add the following and insert Figure 1 to Paragraph (f)(3)(iii) of this AD:

“ “HOIST” Maximum gross weight for Human External Cargo, which requires category `A' performance capabilities, is limited to the gross weight determined in accordance with the following Figure 1 to Paragraph (f)(3)(iii) of this AD for your altitude and temperature with the air-conditioner, anti-ice, and bleed air turned off.”

Note 1 to paragraph (f)(3)(iii) of this AD: Figure 1 to Paragraph (f)(3)(iii) of this AD becomes Figure 1-2A when inserted in the “Weight Limits” section of your RFM.

BILLING CODE 4910-13-P

(g) Credit for Actions Previously Completed

Incorporation of the changes contained in Sikorsky RFM SA S92A-RFM-003, Part 1, Revision No. 12, approved December 9, 2010, before the effective date of this AD is considered acceptable for compliance with the corresponding actions specified in paragraph (f) of this AD.

(h) Alternative Methods of Compliance (AMOCs)

(1) The Manager, Boston Aircraft Certification Office, FAA, may approve AMOCs for this AD. Send your proposal to: John Coffey, Flight Test Engineer, Boston Aircraft Certification Office, 12 New England Executive Park, Burlington, MA 01803; telephone (781) 238-7173; email: john.coffey@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

For service information identified in this AD, contact Sikorsky Aircraft Corporation, Attn: Manager, Commercial Technical Support, mailstop S581A, 6900 Main Street, Stratford, CT, telephone (203) 383-4866, email address tsslibrary@sikorsky.com, or at http://www.sikorsky.com. You may review a copy of the service information at the FAA, Office of the Regional Counsel, Southwest Region, 2601 Meacham Blvd., Room 663, Fort Worth, Texas 76137.

(j) Subject

Joint Aircraft Service Component (JASC) Code: 2510 Flight Compartment Equipment.

Issued in Fort Worth, Texas, on January 16, 2015.
Lance T. Gant,
Acting Directorate Manager, Rotorcraft Directorate Manager, Aircraft Certification Service.

[FR Doc. 2015-02283 Filed 2-5-15; 8:45 am]

BILLING CODE 4910-13-C